Proclamation 8510 of April 29, 2010

National Charter Schools Week, 2010

By the President of the United States of America

A Proclamation

Our Nation’s future depends on the education we provide to our sons and daughters, and charter schools across America serve as laboratories for education. Ideas developed and tested by charter schools have unlocked potential in students of every background and are driving reform throughout many school districts. During National Charter Schools Week, we recommit to supporting innovation in teaching and learning at high quality charter schools and ensuring all our students have a chance to realize the American Dream.

Principals, teachers, parents, school boards, and communities are working together to transform our public schools, and countless children stand to benefit from the replication of effective education models. In the 21st century, a world class education is our best avenue to prosperity. The skills and knowledge students gain in school—reinforced by the love of learning educators and mentors can foster—can empower young Americans to achieve their dreams and lead our country in the global marketplace.

The size and scope of the challenges before us require us to align our deepest values and commitments to the demands of a new age. My Administration is committed to helping schools prepare the next generation of leaders by reaching beyond standardized methods and promoting creative teaching strategies and learning techniques. By giving all our children access to a complete and competitive education, we will pass on the American spirit of limitless possibility to the next generation.

NOW, THEREFORE, I, BARACK OBAMA, President of the United States of America, by virtue of the authority vested in me by the Constitution and the laws of the United States, do hereby proclaim May 2 through May 8, 2010, as National Charter Schools Week. I commend our Nation’s charter schools, teachers, and administrators, and I call on States and communities to support charter schools and the students they serve.

IN WITNESS WHEREOF, I have hereunto set my hand this twenty-ninth day of April, in the year of our Lord two thousand ten, and of the Independence of the United States of America the two hundred and thirty-fourth.

[FR Doc. 2010-10730

Filed 5-4-10; 8:45 am]

Billing code 3195-W0-P